DEPARTMENT OF COMMERCE

International Trade Administration

[A-570-890]

Wooden Bedroom Furniture From the People's Republic of China: Partial Rescission of Antidumping Duty Administrative Review and Intent To Rescind, in Part

AGENCY: Import Administration, International Trade Administration, Department of Commerce.

DATES: Effective Date: August 29, 2012.

FOR FURTHER INFORMATION CONTACT: Rebecca Pandolph or Patrick O'Connor, AD/CVD Operations, Office 4, Import Administration, International Trade Administration, U.S. Department of Commerce, 14th Street and Constitution Avenue NW., Washington, DC 20230, telephone: (202) 482-3627 or (202) 482-0989, respectively.

SUPPLEMENTARY INFORMATION:

Background

On January 4, 2005, the Department of Commerce (Department) published in the Federal Register the antidumping duty order on wooden bedroom furniture from the People's Republic of China (PRC).¹ On January 3, 2012, the Department published a notice of opportunity to request an administrative review of the wooden bedroom furniture order.²

¹ See Notice of Amended Final Determination of Sales at Less Than Fair Value and Antidumping Duty Order: Wooden Bedroom Furniture From the People's Republic of China, 70 FR 329 (January 4, 2005).

² See Antidumping or Countervailing Duty Order, Finding, or Suspended Investigation; Opportunity To Request Administrative Review, 77 FR 83 (January 3, 2012).

The Department received multiple timely requests for an administrative review of the wooden bedroom furniture order and on February 29, 2012, in accordance with section 751(a) of Tariff Act of 1930, as amended (the Act), published in the Federal Register a notice of the initiation of an administrative review of that order.³ The administrative review was initiated with respect to 191 companies or groups of companies, and covers the period from January 1, 2011, through December 31, 2011.

³ See Wooden Bedroom Furniture From the People's Republic of China: Initiation of Administrative Review, 77 FR 12235 (February 29, 2012) (Initiation Notice).

Rescission of Review, in Part

Pursuant to 19 CFR 351.213(d)(1), the Department will rescind an administrative review, in whole or in part, if the party that requested the review withdraws its request within 90 days of the date of publication of the notice of initiation of the requested review. Because all requesting parties withdrew their respective requests for an administrative review of the entities listed in Appendix I, within 90 days of the date of publication of the Initiation Notice, the Department is rescinding this review, in part, with respect to these entities, in accordance with 19 CFR 351.213(d)(1).⁴ The entities listed in Appendix I had a separate rate granted in a previously completed segment of this proceeding that was in effect during the instant review period.

⁴ See Appendix I.

Intent To Rescind the Review, in Part

As noted above, we are rescinding the review of the entities which had received separate rates in previous segments of this proceeding. In addition the remaining companies under review that did not demonstrate eligibility for a separate rate effectively became part of the PRC-wide entity. Accordingly, while the requests for review of those companies were withdrawn by all parties, those withdrawn companies remain under review as part of the PRC-wide entity and we will make a determination with respect to the PRC-wide entity at the final results. A complete list of these entities without separate rates for which we intend to rescind the review at the final results is contained in Appendix II.

Assessment

For the entities in Appendix I for which the Department has rescinded this review and which had a separate rate granted in a previously completed segment of this proceeding that was in effect during the instant review period, the Department intends to issue appropriate assessment instructions directly to U.S. Customs and Border Protection 15 days after the publication of this notice in the Federal Register. For these entities, antidumping duties shall be assessed on period of review entries subject to the separate rates at rates equal to the cash deposit of estimated antidumping duties required at the time of entry, or withdrawal from warehouse, for consumption, in accordance with 19 CFR 351.212(c)(1)(i).

For the entities in Appendix II for which the Department intends to rescind the individual review of the entity in the final results, but which are part of the PRC-wide entity during the instant review period (i.e., have not established their eligibility for a separate rate), the Department will issue assessment instructions 15 days after publication of the final results of this review.

In addition, pursuant to an injunction issued in Legacy Classic Furniture, Inc. v. United States, CIT No.10-00352 on December 28, 2010, the Department must continue to suspend liquidations of entries of the heritage court bench (model 800-4800) which were imported by Legacy Classic Furniture, Inc. pending a conclusive court decision.

Notification to Importers

This notice serves as a final reminder to importers whose entries will be liquidated as a result of this rescission notice, of their responsibility under 19 CFR 351.402(f) to file a certificate regarding the reimbursement of antidumping duties prior to liquidation of the relevant entries during this review period. Failure to comply with this requirement could result in the Secretary's assumption that reimbursement of antidumping duties occurred and subsequent assessment of double antidumping duties.

Notification Regarding Administrative Protective Orders (APOs)

This notice also serves as a reminder to parties subject to APOs of their responsibility concerning the return or destruction of proprietary information disclosed under an APO in accordance with 19 CFR 351.305(a)(3), which continues to govern business proprietary information in this segment of the proceeding. Timely written notification of the return/destruction of APO materials or conversion to judicial protective order is hereby requested. Failure to comply with the regulations and terms of an APO is a violation which is subject to sanction.

This notice is issued and published in accordance with section 777(i)(1) of the Act, and 19 CFR 351.213(d)(4).

Dated: August 20, 2012.
Gary Taverman,
Senior Advisor for Antidumping and Countervailing Duty Operations.

Appendix I

The following companies were named in our Initiation Notice. Subsequently, interested parties timely withdrew all requests for review of these companies. Therefore, pursuant to 19 CFR 351.213(d)(1), we are rescinding this administrative review with respect to these companies:

• Art Heritage International, Ltd.; Super Art Furniture Co., Ltd.; Artwork Metal & Plastic Co., Ltd.; Jibson Industries Ltd.; Always Loyal International

• Changshu HTC Import & Export Co., Ltd.

• Cheng Meng Furniture (Pte) Ltd.; Cheng Meng Decoration & Furniture (Suzhou) Co., Ltd.

• Chuan Fa Furniture Factory

• COE Ltd.

• Dalian Huafeng Furniture Co., Ltd./Dalian Huafeng Furniture Group Co., Ltd.

• Decca Furniture Ltd.

• Dongguan Bon Ten Furniture Co., Ltd.

• Dongguan Cambridge Furniture Co., Ltd.; Glory Oceanic Co., Ltd.

• Dongguan Grand Style Furniture Co., Ltd.; Hong Kong Da Zhi Furniture Co., Ltd.

• Dongguan Great Reputation Furniture Co., Ltd.

• Dongguan Hero Way Woodwork Co., Ltd.; Dongguan Da Zhong Woodwork Co., Ltd.; Hero Way Enterprises Ltd.; Well Earth International Ltd.

• Dongguan Hung Sheng Artware Products Co., Ltd.; Coronal Enterprise Co., Ltd.

• Dongguan Kin Feng Furniture Co., Ltd.

• Dongguan Kingstone Furniture Co., Ltd.; Kingstone Furniture Co., Ltd.

• Dongguan Liaobushangdun Huada Furniture Factory; Great Rich (Hk) Enterprises Co., Ltd.

• Dongguan Lung Dong Furniture Co., Ltd.; Dongguan Dong He Furniture Co., Ltd.

• Dongguan Mingsheng Furniture Co., Ltd.

• Dongguan Mu Si Furniture Co., Ltd.

• Dongguan Singways Furniture Co., Ltd.

• Dongguan Sunrise Furniture Co., Ltd.; Taicang Sunrise Wood Industry Co., Ltd.; Taicang Fairmount Designs Furniture Co., Ltd.; Meizhou Sunrise Furniture Co., Ltd.

• Dongguan Sunshine Furniture Co., Ltd.

• Dongguan Yihaiwei Furniture Limited

• Dorbest Ltd.; Rui Feng Woodwork Co., Ltd. aka Rui Feng Woodwork (Dongguan) Co., Ltd.; Rui Feng Lumber Development Co., Ltd. aka Rui Feng Lumber Development (Shenzhen) Co., Ltd.

• Eurosa (Kunshan) Co., Ltd.; Eurosa Furniture Co., (Pte) Ltd.

• Fine Furniture (Shanghai) Ltd.

• Fuijian Lianfu Forestry Co, Ltd. aka Fujian Wonder Pacific Inc.; Fuzhou Huan Mei Furniture Co., Ltd.; Jiangsu Dare

• Garri Furniture (Dong Guan) Co., Ltd.; Molabile International, Inc.; Weei Geo Enterprise Co., Ltd.

• Guangzhou Maria Yee Furnishings Ltd.; Pyla HK, Ltd.; Maria Yee, Inc.

• Hainan Jong Bao Lumber Co., Ltd.; Jibbon Enterprise Co., Ltd.

• Hang Hai Woodcraft's Art Factory

• Jardine Enterprise, Ltd.

• Jiangmen Kinwai Furniture Decoration Co., Ltd.

• Jiangmen Kinwai International Furniture Co., Ltd.

• Jiangsu Xiangsheng Bedtime Furniture Co., Ltd.

• Jiangsu Yuexing Furniture Group Co., Ltd.

• Jiedong Lehouse Furniture Co., Ltd.

• Kuan Lin Furniture (Dong Guan) Co., Ltd.; Kuan Lin Furniture Factory; Kuan Lin Furniture Co., Ltd.

• Kunshan Lee Wood Product Co., Ltd.

• Kunshan Summit Furniture Co., Ltd.

• Langfang Tiancheng Furniture Co., Ltd.

• Leefu Wood (Dongguan) Co., Ltd.; King Rich International, Ltd.

• Locke Furniture Factory; Kai Chan Furniture Co., Ltd.; Kai Chan (Hong Kong) Enterprise Ltd.; Taiwan Kai Chan Co., Ltd.

• Longkou Huangshan Furniture Factory

• Longrange Furniture Co., Ltd.

• Meikangchi (Nantong) Furniture Company Ltd.

• Nanhai Baiyi Woodwork Co., Ltd.

• Nanhai Jiantai Woodwork Co., Ltd.; Fortune Glory Industrial Ltd. (H.K. Ltd.)

• Nanjing Nanmu Furniture Co., Ltd.

• Nantong Dongfang Orient Furniture Co., Ltd.

• Nathan International Ltd.; Nathan Rattan Factory

• Passwell Corporation; Pleasant Wave Ltd.

• Perfect Line Furniture Co., Ltd.

• Prime Wood International Co., Ltd; Prime Best International Co., Ltd.; Prime Best Factory; Liang Huang (Jiaxing) Enterprise Co., Ltd.

• Putian Jinggong Furniture Co., Ltd.

• Qingdao Liangmu Co., Ltd.

• Qingdao Shengchang Wooden Co., Ltd.

• Restonic (Dongguan) Furniture Ltd.; Restonic Far East (Samoa) Ltd.

• Rizhao Sanmu Woodworking Co., Ltd.

• Season Furniture Manufacturing Co.; Season Industrial Development Co.

• Sen Yeong International Co., Ltd.; Sheh Hau International Trading Ltd.

• Shanghai Fangjia Industry Co. Ltd.

• Shanghai Jian Pu Export & Import Co., Ltd.

• Shenyang Shining Dongxing Furniture Co., Ltd.

• Shenzhen Forest Furniture Co., Ltd.

• Shenzhen Jiafa High Grade Furniture Co., Ltd.; Golden Lion International Trading Ltd.

• Shenzhen New Fudu Furniture Co., Ltd.

• Shenzhen Shen Long Hang Industry Co., Ltd.

• Shenzhen Wonderful Furniture Co., Ltd.

• Shing Mark Enterprise Co., Ltd.; Carven Industries Limited (BVI); Carven Industries Limited (HK); Dongguan Zhenxin Furniture Co., Ltd.; Dongguan Yongpeng Furniture Co., Ltd.

• Shun Feng Furniture Co., Ltd.

• Songgang Jasonwood Furniture Factory; Jasonwood Industrial Co., Ltd. S.A.

• Starwood Industries Ltd.

• Strongson Furniture (Shenzhen) Co., Ltd.; Strongson Furniture Co., Ltd.; Strongson (HK) Co.

• Sunforce Furniture (Hui-Yang) Co., Ltd.; Sun Fung Wooden Factory; Sun Fung Co.; Shin Feng Furniture Co., Ltd.; Stupendous International Co., Ltd.

• Superwood Co., Ltd.; Lianjiang Zongyu Art Products Co., Ltd.

• Teamway Furniture (Dong Guan) Ltd.; Brittomart Inc.

• Techniwood Industries Ltd.; Ningbo Furniture Industries Limited; Ningbo Hengrun Furniture Co. Ltd.

• Tianjin Fortune Furniture Co., Ltd.

• Tianjin Phu Shing Woodwork Enterprise Co., Ltd.

• Tradewinds Furniture Ltd.; Fortune Glory Industrial Ltd. (H. K. Ltd.)

• Transworld (Zhang Zhou) Furniture Co. Ltd.

• Tube-Smith Enterprise (Zhangzhou) Co., Ltd.; Tube-Smith Enterprise (Haimen) Co., Ltd.; Billionworth Enterprises Ltd.

• U-Rich Furniture (Zhangzhou) Co., Ltd.; U-Rich Furniture Ltd.

• Wanhengtong Nueevder (Furniture) Manufacture Co., Ltd.; Dongguan Wanengtong Industry Co., Ltd.

• Wanvog Furniture (Kunshan) Co., Ltd.

• Winny Overseas, Ltd.; Zhongshan Winny Furniture Ltd.; Winny Universal Ltd.

• Woodworth Wooden Industries (Dong Guan) Co., Ltd.

• Xiamen Yongquan Sci-Tech Development Co., Ltd.

• Xilinmen Furniture Co., Ltd.

• Yihua Timber Industry Co., Ltd.; Guangdong Yihua Timber Industry Co., Ltd.

• Zhang Zhou Sanlong Wood Product Co., Ltd.

• Zhangjiagang Daye Hotel Furniture Co., Ltd.

• Zhangjiagang Zheng Yan Decoration Co., Ltd.

• Zhangjiang Sunwin Arts & Crafts Co., Ltd.

• Zhangzhou Guohui Industrial & Trade Co. Ltd.

• Zhong Shan Fullwin Furniture Co., Ltd.

• Zhongshan Fookyik Furniture Co., Ltd.

• Zhongshan Golden King Furniture Industrial Co., Ltd.

• Zhoushan For-Strong Wood Co., Ltd.

Appendix II

The following companies were named in our Initiation Notice. Although we may determine that more companies are subject to the PRC-wide rate upon the completion of our Final Results, this is a preliminary list of companies that have failed to establish a separate rate and will be subject to the PRC-wide entity rate:

• Brother Furniture Manufacture Co., Ltd.

• C.F. Kent Co., Inc.

• C.F. Kent Hospitality, Inc.

• Champion Sun Industries Limited

• Contact Co., Ltd.

• Creation Industries Co., Ltd.

• Denny's Furniture Associates Corp.

• Denny's International Co., Ltd.

• Der Chang Wooden Works

• Der Cheng Furniture Co., Ltd.

• Dong Guan Golden Fortune Houseware Co., Ltd.

• Dongguan Chunsan Wood Products Co., Ltd.

• Dongguan Creation Furniture Co., Ltd.

• Dongguan Haoshun Furniture Ltd.

• Dongguan Hua Ban Furniture Co., Ltd.

• Dongguan Landmark Furniture Products Ltd.

• Dongguan Sundart Timber Products Co., Ltd.

• Dongguan Sunrise Furniture Co.

• Ever Spring Furniture Co., Ltd.

• Evershine Enterprise Co.

• Fairmont Designs

• Fleetwood Fine Furniture Lp.

• Forward Win Enterprises Co. Ltd.

• Foshan Guanqiu Furniture Co., Ltd.

• Fujian Putian Jinggong Furniture Co., Ltd.

• Gainwell Industries Limited.

• Gotop Global Inc.

• Gotop Global Ltd.

• Green River Wood (Dongguan) Ltd.

• Guangdong Gainwell Industrial Furniture Co., Ltd.

• Guangdong Sunwin Green Furniture Industry Group Co., Ltd.

• Hong Kong Jingbi Group.

• Huasen Furniture Co., Ltd.

• Jiangsu Weifu Group Fullhouse Furniture Manufacturing Corp.

• Jiant Furniture Co., Ltd.

• King Kei Trading Company Limited

• King's Way Furniture Industries Co., Ltd.

• Kingsyear, Ltd.

• Link Silver Ltd. (V.I.B.)

• Marvin Furniture (Shanghai) Co. Ltd.

• Moonart Furniture Group.

• Moonart International Inc.

• Nanjing Jardine Enterprises, Ltd.

• Nantong Yangzi Furniture Co., Ltd.

• Nantong Yushi Furniture Co., Ltd.

• Ningbo Fubang Furniture Industries Limited

• Ningbo Furniture Industries Company Ltd.

• Ningbo Techniwood Furniture Industries Limited

• Northeast Lumber Co., Ltd.

• Passwell Wood Corporation

• S.Y.C Family Enterprise Co., Ltd.

• Samso Industries Ltd.

• Senyuan Furniture Group.

• Shanghai Aosen Furniture Co., Ltd.

• Shanghai Hospitality Product Mfg., Co., Ltd.

• Shanghai Industries Group

• Shanghai Kent Furniture Co., Ltd.

• Shanghai Season Industry & Commerce Co., Ltd.

• Shanghai Sunrise Furniture Co., Ltd.

• Shanghai Zhiyi (Jiashun) Furniture Co., Ltd.

• Shanghai Zhiyi Furniture And Decoration Co., Ltd.

• Shaoxing Mengxing Furniture Co., Ltd.

• Shenzhen Xiande Furniture Factory

• Starwood Furniture Manufacturing Co., Ltd

• Sundart International, Ltd.

• Tarzan Furniture Industries, Ltd.

• Techniwood (Macao Commercial Offshore) Limited

• Tianjin Master Home Furniture Company

• Tradewinds International Enterprise Ltd.

• Trendex Industries Limited

• Wan Bao Chen Group Hong Kong Co., Ltd.

• World Design International Co., Ltd.

• Xingli Arts & Crafts Factory Of Yangchun

• Yuexing Group Co., Ltd.

• Zhejiang Shaoxing Huaweimei Furniture Co., Ltd.

• Zhong Shan Heng Fu Furniture Co.

• Zhongshan Fengheng Furniture Co., Ltd.

• Zhongshan Gainwell Furniture Co., Ltd.

• Zhongshan Gotop Furniture Co., Ltd

• Zhongshang Yiming Furniture Co., Ltd.

[FR Doc. 2012-21341 Filed 8-28-12; 8:45 am]

BILLING CODE 3510-DS-P